DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on a proposed new collection of information (1024-xxxx).

DATES: Public comments will be accepted on the proposed Information Collection Request (ICR) on or before April 21, 2008.

ADDRESSES: Send Comments To: Eppley Institute for Parks & Public Lands. Indiana University Research Park, RE: Assateague Island National Seashore (ASIS), 501 N. Morton Street, Suite 100, Bloomington, Indiana 474074; or via phone at 812/855-3095; or via fax 812/856-5600; or via e-mail at eppley@indiana.edu. Also, you may send comments to Leonard E. Stowe, NPS Information Collection Clearance Officer, 1849 C St., NW., (2605), Washington, DC 20240, or by e-mail at leonard stowe@nps.gov. All responses of this notice will be summarized and included in the request for the Office of Management and Budget (OMB) approval. All comments will become a matter of public record.

To Request a Draft of Proposed Collection of Information Contact: Eppley Institute for Parks & Public Lands Indiana University Research Park, RE: ASIS, 501 N. Morton Street, Suite 100, Bloomington, Indiana 47404; or via phone at 812/855-3095; or via fax at 812/855-5600; or via e-mail at eppley@indiana.edu.

FOR FURTHER INFORMATION CONTACT: Dr. James Gramann, NPS Social Science Program, 1201 “Eye” Street, Washington, DC 20005; or via phone at 202/513-7189; or via e-mail at James_Gramann@partner.nps.gov. You are entitled to a copy of the entire ICR package free of charge once the package is submitted to OMB for review. You can access this ICR at http://www.reginfo.gov/public/.

SUPPLEMENTARY INFORMATION: Title: Assessing Visitor Attitudes, Experiences and Expectations associated with the Management and Use of Over-sand Vehicles at Assateague Island National Seashore.

Bureau Form Number: None.

OMB Number: To be requested.

Expiration Date: To be requested.

Type of Request: New collection.

Description of Need: The proposed study would provide information for use in identifying and evaluating alternatives for future management of Over-Sand Vehicle (OSV) use at Assateague Island National Seashore (ASIS), Maryland. The purpose of this research is to provide park managers with information about the types and characteristics of visitors to the OSV zone and adjacent backcountry areas, attributes of the OSV zone important to the quality of visitor experience, and visitor attitudes regarding OSV management and resource protection practices.

The use of Over-Sand Vehicles (OSVs) for access and recreation is a traditional activity that was occurring on ASIS prior to the establishment of ASIS in 1965. Management of OSV use was formalized with the adoption of special regulations (36 CFR 7.65) in 1974, which established a maximum limit of 145 vehicles using the Maryland District OSV zone at any time, vehicle and equipment requirements, an OSV permit system, and general requirements for legal OSV operation. OSV use was re-evaluated during development of the Seashore's 1982 General Management Plan (GMP). The GMP designated a “Traditional Recreation Subzone” in the Maryland District approximately 12-miles long to be managed for multiple uses including over-sand travel by properly equipped and permitted OSVs. The Traditional Recreation Subzone also includes a small area for overnight accommodation of self-contained OSVs, and tow hike-in, beach front, primitive backcountry campgrounds.

In 2008, the NPS will begin a revision of the GMP for ASIS. GMPs are broad umbrella documents that set the long-term goals for an individual park unit based upon the area's enabling legislation and other relevant laws and executive orders. The GMP (1) clearly defines the desired natural and cultural resource conditions to be achieved and maintained over time; (2) clearly defines the necessary conditions for visitors to understand, enjoy, and appreciate the park's significant resources; (3) identifies the kinds and levels of management activities, visitor use, and development that are appropriate for maintaining the desired conditions; and (4) identifies indicators and standards for maintaining the desired conditions.

The proposed study will develop information about contemporary OSV use and the nature and expectations of visitors to the Traditional Recreation Subzone. The results are expected to assist in the upcoming GMP revision process by providing currently unavailable information for decision-making related to the future management of OSV use at the National Seashore. The study has two primary objectives: (1) Develop baseline data on users of the Traditional Recreation Subzone including types, frequency and patterns of use, and socio-economic and demographic characteristics: and (2) identify potential indicators and standards of quality for maintaining the desired visitor experience in the Traditional Recreation Subzone.

To accomplish these objectives, the proposed study includes two components. The first focuses on OSV permit holders utilizing the ASIS Traditional Recreation Subzone. The second component targets other, non-OSV users of the Traditional Recreation Subzone.

1. Survey OSV Permit Holders Utilizing the Traditional Recreation Subzone

The purpose of the proposed research is to provide park managers with information about National Seashore OSV users, attributes and quality of the current OSV experience, and user attitudes regarding OSV management. A randomly selected group of current (2008) OSV permit holders will be provided survey questionnaires either in-person or through the mail. The survey will include questions intended to develop information describing OSV user demographics, the frequency, patterns and type of OSV use, standards of quality and factors influencing visitor experience (both positive and negative), and user attitudes regarding the impacts of current and potential future OSV management and resource protection practices. This research is proposed for the summer and fall of 2008.

2. Survey Non-OSV Users of the Traditional Recreation Subzone

The second component of the proposed research is intended to provide park managers with information about other, non-OSV users of the National Seashore's Traditional Recreation Subzone. Non-OSV users of the Subzone include day use hikers, overnight campers using the hike-in primitive backcountry campgrounds, and boat-in visitors. A randomly selected group of visitors issued backcountry camping permits between September 1, 2007 and August 30, 2008, will be provided survey questionnaires through the mail. The survey will include questions similar to the types described above for Component 1, except that the intent will be to develop information from the perspective of non-OSV users of the Traditional Recreation Subzone. This research is proposed for the summer and fall of 2008. The obligation to respond is voluntary.

Automated data collection: This information will be collected via questionnaires, distributed either on-site or through the mail. No automated data collection will take place.

Description of respondents: Component 1—on-site or mail-back surveys: ASIS OSV special use permit holders for calendar year 2008. Component 2—mail-back surveys: ASIS visitors issued backcountry camping permits between September 1, 2007 and August 31, 2008.

Estimated average number of respondents: Component 1: 300 respondents; Component 2: 200 respondents.

Estimated average burden hours per response: Component 1: 15 minutes; Component 2: 15 minutes.

Frequency of Response: 1 time per respondent.

Estimated annual reporting burden: 125 hours.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be publicly available at any time. While you can ask us in your comment to withhold your personal identifying information from pubic view, we cannot guarantee that we will be able to do so.

Dated: February 11, 2008.
Leonard E. Stowe,
NPS, Information Collection Clearance Officer.

[FR Doc. 08-740 Filed 2-19-08; 8:45 am]

BILLING CODE 4312-60-M